DEPARTMENT OF JUSTICE

Notice of Lodging of Proposed Consent Decree under the Clean Water Act

Notice is hereby given that on September 29, 2009, a Consent Decree in United States of America and Commonwealth of Virginia v. Hampton Roads Sanitation District, Civil Action No. 2:09-cv-481, was lodged with the United States District Court for the Eastern District of Virginia, Norfolk Division.

The Commonwealth of Virginia joins the United States as a co-plaintiff in this action and in the consent decree. The proposed consent decree resolves the claims in the Joint Complaint in this action, filed together with this Notice of Lodging, in which the United States and the Commonwealth of Virginia allege that HRSD has violated the Federal Water Pollution Control Act, a/k/a/ the Clean Water Act, 33 U.S.C. 1251 et seq. (the “Act”) and the State Water Control Law, § 62.1-44.2 et seq. of the Code of Virginia of 1950. Specifically, Plaintiffs allege that HRSD had over 350 unauthorized discharges of sewage, known as sanitary sewer overflows (“SSOs”), since February, 2003.

The consent decree obligates Hampton Roads Sanitation District (“HRSD”), located in Hampton Roads, Virginia, to implement a number of technical plans to evaluate its sanitary sewer system and sewage treatment plants, and to submit for approval a Regional Wet Weather Management Plan (“RWWMP”) to address potential capacity issues in its sanitary sewers and treatment plants. The consent decree further obligates HRSD to implement expeditiously the projects set forth in the RWWMP for HRSD to perform. HRSD also commits to implement a number of “priority one” projects in its Capital Improvement Plan to upgrade its aging sewers; to submit a program to upgrade its maintenance programs; and to identify and fix components that have a high risk of failure. Finally, under the consent decree, HRSD must pay a civil penalty of $900,000 to Plaintiffs

The Department of Justice will receive for a period of thirty (30) days from the date of this publication comments relating to this proposed Consent Decree. Comments should be addressed to the Assistant Attorney General, Environment and Natural Resources Division, and either e-mailed to pubcomment-ees.enrd@usdoj.gov or mailed to P.O. Box 7611, U.S. Department of Justice, Washington, DC 20044-7611, Attention: Nancy Flickinger (EES), and should refer to United States of America and Commonwealth of Virginia v. Hampton Roads Sanitation District, Civil Action No. 2:09-cv-481 and DOJ # 90-5-1-1-09125.

The proposed Consent Decree may be examined at the Office of the United States Attorney for the Eastern District of Virginia, World Trade Center, Suite 8000, 101 W. Main Street, Norfolk, VA. 23510. During the public comment period, the consent decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $ 255.50 (25 cents per page reproduction cost for a full copy) payable to the U.S. Treasury.

Maureen Katz,
Assistant Chief, Environmental Enforcement Section, Environment and Natural Resources Division.

[FR Doc. E9-24119 Filed 10-6-09; 8:45 am]

BILLING CODE 4410-15-P